DEPARTMENT OF ENERGY

Federal Energy Regulatory Commission

Combined Notice of Filings

Take notice that the Commission has received the following Natural Gas Pipeline Rate and Refund Report filings:

Filings Instituting Proceedings

Docket Numbers: RP12-298-000.

Applicants: Midcontinent Express Pipeline LLC.

Description: Penalty Revenue Crediting Report of Midcontinent Express Pipeline Company LLC.

Filed Date: 1/9/12.

Accession Number: 20120109-5105.

Comments Due: 5 p.m. ET 1/23/12.

Docket Numbers: RP12-299-000.

Applicants: Trunkline Gas Company, LLC.

Description: Negotiated Rates Filing 2—to be effective 1/11/2012.

Filed Date: 1/10/12.

Accession Number: 20120110-5060.

Comments Due: 5 p.m. ET 1/23/12.

Docket Numbers: RP12-300-000.

Applicants: USG Pipeline Company, LLC.

Description: Petition for Extension of Modification of Waivers of USG Pipeline Company, LLC.

Filed Date: 1/9/12.

Accession Number: 20120109-5196.

Comments Due: 5 p.m. ET 1/23/12.

Docket Numbers: RP12-301-000.

Applicants: Gas Transmission Northwest LLC.

Description: Combining Rates in RP12-238 and RP12-170 to be effective 1/1/2012.

Filed Date: 1/11/12.

Accession Number: 20120111-5110.

Comments Due: 5 p.m. ET 1/23/12.

Docket Numbers: RP11-1711-000.

Applicants: Texas Gas Transmission, LLC.

Description: Submits tariff filing per 154.501: 2011 Cashout Report Filing to be effective N/A.

Filed Date: 1/9/12.

Accession Number: 20120109-5195.

Comments Due: 5 p.m. ET 1/23/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1597-001.

Applicants: Tennessee Gas Pipeline Company, L.L.C.

Description: Supplemental Information of Tennessee Gas Pipeline Company, L.L.C.

Filed Date: 1/9/12.

Accession Number: 20120109-5111.

Comments Due: 5 p.m. ET 1/23/12.

Docket Numbers: CP98-150-006.

Applicants: Millennium Pipeline Company, L.L.C.

Description: Cost and Revenue Study in Compliance with December 21, 2006 order.

Accession Number: 20111221-5204.

Comment Date: 5 p.m. ET 1/23/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 11, 2012.
Nathaniel J. Davis, Sr.
Deputy Secretary

[FR Doc. 2012-765 Filed 1-17-12; 8:45 am]

BILLING CODE 6717-01-P